DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons (SDN) List based on OFAC's determination that one or more applicable legal criteria were satisfied. All property and interests in property subject to U.S. jurisdiction of these persons are blocked, and U.S. persons are generally prohibited from engaging in transactions with them.

DATES: See SUPPLEMENTARY INFORMATION section for applicable date.

FOR FURTHER INFORMATION CONTACT: OFAC: Bradley Smith, Director, tel.: 202-622-2490; Associate Director for Global Targeting, tel.: 202-622-2420; Assistant Director for Licensing, tel.: 202-622-2480; Assistant Director for Regulatory Affairs, tel.: 202-622-4855; or Assistant Director for Sanctions Enforcement, Compliance & Analysis, tel.: 202-622-2490.

SUPPLEMENTARY INFORMATION:

Electronic Availability

The SDN List and additional information concerning OFAC sanctions programs are available on OFAC's website (https://www.treasury.gov/ofac).

Notice of OFAC Action(s)

On September 12, 2023, OFAC determined that the property and interests in property subject to U.S. jurisdiction of the following persons are blocked under the relevant sanctions authority listed below.

Individuals

1. AJROUCH, Ali Ismail (a.k.a. AJROUCH, Ali; a.k.a. AJROUSH, Aly Ismail), Lebanon; DOB 02 Nov 1971; POB Kfar Houne, Jezzine, South, Lebanon; nationality Lebanon; Gender Male; Secondary sanctions risk: section 1(b) of Executive Order 13224, as amended by Executive Order 13886 (individual) [SDGT] (Linked To: BLACK DIAMOND SARL).

Designated pursuant to section 1(a)(iii)(B) of Executive Order 13224 of September 23, 2001, “Blocking Property and Prohibiting Transactions With Persons Who Commit, Threaten to Commit, or Support Terrorism,” 66 FR 49079, as amended by Executive Order 13886 of September 9, 2019, “Modernizing Sanctions To Combat Terrorism,” 84 FR 48041 (collectively, E.O. 13224, as amended), for owning or controlling, directly or indirectly, BLACK DIAMOND SARL, a person whose property and interests in property are blocked pursuant to E.O. 13224, as amended.

2. HELBAWI, Mahdy Akil (a.k.a. AKIL, Madhy; a.k.a. AKIL, Mahdi Amer; a.k.a. AQIL, Mahdi Amer; a.k.a. AQIL, Mahdi Amir), Colombia; DOB 30 Oct 1987; POB Maicao, Colombia; nationality Lebanon; citizen Colombia; Gender Male; Secondary sanctions risk: section 1(b) of Executive Order 13224, as amended by Executive Order 13886; Cedula No. 1126038243 (Colombia); Passport LR0159572 (Lebanon) expires 14 Nov 2021; alt. Passport PE092928 (Colombia); National ID No. 000050624602 (Lebanon); Identification Number 3664441 (Lebanon) (individual) [SDGT] (Linked To: RADA, Amer Mohamed Akil).

Designated pursuant to section 1(a)(iii)(C) of E.O. 13224, as amended, for having materially assisted, sponsored, or provided financial, material, or technological support for, or goods or services to or in support of, AMER MOHAMED AKIL RADA, a person whose property and interests in property are blocked pursuant to E.O. 13224, as amended.

3. RADA, Amer Mohamed Akil (a.k.a. AQEEL, Amer Muhammad), Lebanon; DOB 07 Sep 1964; alt. DOB 10 Dec 1967; nationality Lebanon; alt. nationality Colombia; Additional Sanctions Information—Subject to Secondary Sanctions Pursuant to the Hizballah Financial Sanctions Regulations; Gender Male; Secondary sanctions risk: section 1(b) of Executive Order 13224, as amended by Executive Order 13886; Cedula No. 67121004582 (Colombia); Identification Number V-28426454 (Venezuela) (individual) [SDGT] (Linked To: HIZBALLAH).

Designated pursuant to section 1(a)(iii)(A) of Executive Order 13224, as amended, for having acted or purported to act for or on behalf of, directly or indirectly, HIZBALLAH, a person whose property and interests in property are blocked pursuant to E.O. 13224.

4. RADA, Samer Akil (a.k.a. RADA, Samer Mohamed Akil; a.k.a. REDA, Samer Mohamed Akil), Carabobo, Venezuela; DOB 10 Apr 1981; Additional Sanctions Information—Subject to Secondary Sanctions Pursuant to the Hizballah Financial Sanctions Regulations; Gender Male; Secondary sanctions risk: section 1(b) of Executive Order 13224, as amended by Executive Order 13886; Identification Number 179029472 (Colombia) (individual) [SDGT] (Linked To: HIZBALLAH).

Designated pursuant to section 1(a)(iii)(C) of E.O. 13224, as amended, for having materially assisted, sponsored, or provided financial, material, or technological support for, or goods or services to or in support of, HIZBALLAH, a person whose property and interests in property are blocked pursuant to E.O. 13224.

Entities

1. BCI TECHNOLOGIES C.A., Avenue Don Julio Centeno, Centro Comercial Los Jarales, local N1-11, Valencia, Carabobo State, Venezuela; Secondary sanctions risk: section 1(b) of Executive Order 13224, as amended by Executive Order 13886; Organization Type: Other information technology and computer service activities [SDGT] (Linked To: RADA, Samer Akil).

Designated pursuant to section 1(a)(iii)(A) of E.O. 13224, as amended, for being owned, controlled, or directed by, directly or indirectly, SAMER AKIL RADA, a person whose property and interests in property are blocked pursuant to E.O. 13224, as amended.

2. BLACK DIAMOND SARL, Beirut, Baabda, Lebanon; Secondary sanctions risk: section 1(b) of Executive Order 13224, as amended by Executive Order 13886; Organization Established Date 09 Mar 2016; Commercial Registry Number 2044841 (Lebanon) [SDGT] (Linked To: ZANGA S.A.S.).

Designated pursuant to section 1(a)(iii)(C) of E.O. 13224, as amended, for having materially assisted, sponsored, or provided financial, material, or technological support for, or goods or services to or in support of, ZANGA S.A.S., a person whose property and interests in property are blocked pursuant to E.O. 13224, as amended.

3. ZANGA S.A.S., Carrera 49 C #102-57 104, Barranquilla, Colombia; Secondary sanctions risk: section 1(b) of Executive Order 13224, as amended by Executive Order 13886; Organization Established Date 03 Mar 2015; NIT # 9008900295 (Colombia); Identification Number 1700344853100000 (Colombia) [SDGT] (Linked To: HELBAWI, Mahdy Akil).

Designated pursuant to section 1(a)(iii)(A) of E.O. 13224, as amended, for being owned, controlled, or directed by, directly or indirectly, MAHDY AKIL HELBAWI, a person whose property and interests in property are blocked pursuant to E.O. 13224, as amended.

Dated: September 12, 2023.
Bradley T. Smith,
Director, Office of Foreign Assets Control, U.S. Department of the Treasury.

[FR Doc. 2023-20038 Filed 9-14-23; 8:45 am]

BILLING CODE 4810-AL-P